INTERNATIONAL TRADE COMMISSION

[Investigation No. 337-TA-448]

Certain Oscillating Sprinklers, Sprinkler Components, and Nozzles; Notice of Commission Determination Not To Review an Initial Determination Adding a Respondent to the Investigation

AGENCY: U.S. International Trade Commission.

ACTION: Notice.

SUMMARY: Notice is hereby given that the U.S. International Trade Commission has determined not to review an initial determination (ID) of the presiding administrative law judge (“ALJ”) in the above-captioned investigation adding Dayco Products Inc. (“Dayco”) as a respondent to the investigation.

FOR FURTHER INFORMATION CONTACT: Laurent de Winter, Esq., Office of the General Counsel, U.S. International Trade Commission, 500 E Street, SW., Washington, DC 20436, telephone 202-708-5452. General information concerning the Commission may also be obtained by accessing its Internet server (http://www.usitc.gov). The public record for this investigation may be viewed on the Commission's electronic docket (EDIS-ON-Line) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930 in the importation and sale of certain oscillating sprinklers, sprinkler components, and nozzles, on February 9, 2001 66 FR 9721. On June 4, 2001, complainant L.R. Nelson Corporation moved, pursuant to Commission rule 210.14(b), to amend the complaint and notice of investigation to add Dayco Products, Inc. (“Dayco”) as a respondent in this investigation with respect to infringement of U.S. Letters Patent 6,036,117.

On June 14, 2001, the presiding administrative law judge (ALJ) (Judge Luckern) issued an ID (Order No. 9) (copy attached) adding Dayco as a respondent to the investigation. No petitions for review of the ID were filed.

This action is taken under the authority of section 337 of the Tariff Act of 1930, as amended (19 U.S.C. 1337), and Commission rule 210.42 (19 CFR 210.42).

Copies of the nonconfidential version of the ID and all other nonconfidential documents filed in connection with this investigation are available for inspection during official business hours (8:45 a.m. to 5:15 p.m.) in the Office of the Secretary, U.S. International Trade Commission, 500 E Street, SW., Washington, DC 20436, telephone 202-205-2000.

By order of the Commission.
Issued: July 16, 2001.
Donna R. Koehnke,
Secretary.

[FR Doc. 01-18125 Filed 7-18-01; 8:45 am]

BILLING CODE 7020-02-P